DEPARTMENT OF COMMERCE

Foreign-Trade Zones Board

[Order No. 2101]

Expansion of Foreign-Trade Zone 265, Conroe, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the City of Conroe, grantee of Foreign-Trade Zone 265, submitted an application to the Board for authority to expand FTZ 265—Site 1 to include an additional 1,046 acres within Conroe Park North in Conroe, Texas, adjacent to the Houston Customs and Border Protection port of entry (B-55-2019, docketed September 16, 2019);

Whereas, notice inviting public comment has been given in the Federal Register (84 FR 49718, September 23, 2019) and the application has been processed pursuant to the FTZ Act and the Board's regulations; and,

Whereas, the Board adopts the findings and recommendations of the examiner's report, and finds that the requirements of the FTZ Act and the Board's regulations are satisfied;

Now, therefore, the Board hereby orders:

The application to expand FTZ 265 is approved, subject to the FTZ Act and the Board's regulations, including Section 400.13.

Dated: June 3, 2020.
Jeffrey I. Kessler,
Assistant Secretary for Enforcement and Compliance, Alternate Chairman, Foreign-Trade Zones Board.

[FR Doc. 2020-12427 Filed 6-8-20; 8:45 am]

BILLING CODE 3510-DS-P